DEPARTMENT OF COMMERCE

National Oceanic and Atmospheric Administration

[I.D. 022200B]

Submission for OMB Review; Comment Request

The Department of Commerce (DOC) has submitted to the Office of Management and Budget (OMB) for clearance the following proposal for collection of information under the provisions of the Paperwork Reduction Act (44 U.S.C. Chapter 35).

Agency: National Oceanic and Atmospheric Administration (NOAA).

Title: Highly Migratory Species Tournament Reporting.

Agency Form Number(s): n/a

OMB Approval Number: 0648-0323.

Type of Request: Revision of a currently approved collection.

Burden: 110 hours.

Number of Respondents: 300.

Avg. Hours Per Response: Ranges between 2 minutes and 20 minutes depending on the requirement.

Needs and Uses: NMFS requires that operators of fishing tournaments involving Highly Migratory Species provide advance identification of the tournament and then to provide information after the tournament on the Highly Migratory Species caught, whether they were kept or released, the length and weight of the fish, and other information. Most of the data required for post-tournament reporting is already collected in the routine course of tournament operations. The data collected is needed by NMFS to estimate the total annual catch of these species and to evaluate the impact of tournament fishing in relation to other types of fishing.

Affected Public: Businesses or other-for profit organizations.

Frequency: On occasion.

Respondent's Obligation: Mandatory.

OMB Desk Officer: David Rostker, (202) 395-3897.

Copies of the above information collection proposal can be obtained by calling or writing Linda Engelmeier, DOC Forms Clearance Officer, (202) 482-3272, Department of Commerce,

Room 5027, 14th and Constitution Avenue, NW, Washington, DC 20230 (or via the Internet at LEngelme@doc.gov).

Written comments and recommendations for the proposed information collection should be sent within 30 days of publication of this notice to David Rostker, OMB Desk Officer, Room 10202, New Executive Office Building, 725 17th Street, NW, Washington, DC 20503.

Dated: February 16, 2000.
Linda Engelmeier,
Department Forms Clearance Officer, Office of the Chief Information Officer.

[FR Doc. 00-4478 Filed 2-24-00; 8:45 am]

BILLING CODE 3510-22-F